FEDERAL COMMUNICATIONS COMMISSION

47 CFR Part 73

[DA 04-285; MB Docket No. 02-79; RM-10424]

Radio Broadcasting Services; Park City, MT

AGENCY: Federal Communications Commission.

ACTION: Final rule.

SUMMARY: The Audio Division, at the request of Chaparral Broadcasting, Inc., licensee of FM Station KLZY, Channel 223C, Powell, Wyoming, removes Channel 223C at Powell, Wyoming, from the FM Table of Allotments, allots Channel 223C0 at Park City, Montana, as the community's first local FM service, and modifies the license of FM Station KLZY to specify operation on Channel 223C0 at Park City. Channel 223C0 can be allotted to Park City, Montana, in compliance with the Commission's minimum distance separation requirements with a site restriction of 23.8 km (14.8 miles) southeast of Park City. The coordinates for Channel 223C0 at Park City, Montana, are 45-32-24 North Latitude and 108-38-34 West Longitude. The Audio Division also allots Channel 221C at Byron, Wyoming, as the community's first local FM service. Channel 221C can be allotted to Byron, Wyoming, with a site restriction of 44.7 kilometers (27.7 miles) southwest of Byron. The coordinates for Channel 221C at Byron, Wyoming, are 44-38-08 NL and 109-01-20 WL. The Audio Division also substitutes Channel 222C for Channel 223C at Miles City, Montana, and modifies the license of FM Station KKRY to specify operation on Channel 222C at Miles City, Montana, at the existing reference coordinates.

DATES: Effective March 25, 2004.

FOR FURTHER INFORMATION CONTACT: Deborah Dupont, Media Bureau, (202) 418-2180.

SUPPLEMENTARY INFORMATION: This is a synopsis of the Commission's Report and Order, MB Docket No. 02-79, adopted February 4, 2004 and released February 9, 2004. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Montana, is amended by adding Channel 222C and by removing Channel 223C at Miles City, and by adding Park City, Channel 223C.

3. Section 73.202(b), the Table of FM Allotments under Wyoming, is amended by adding Byron, Channel 281C.

Federal Communications Commission.
John A. Karousos,
Assistant Chief, Audio Division, Media Bureau.

[FR Doc. 04-3967 Filed 2-23-04; 8:45 am]

BILLING CODE 6712-01-P